DEPARTMENT OF DEFENSE

Department of the Army; Corps of Engineers

Intent To Prepare a Draft Environmental Impact Statement for the Clear Creek General Reevaluation Study, Brazoria, Fort Bend, Galveston and Harris Counties, TX

AGENCY: Department of the Army, U.S. Army Corps of Engineers, DoD.

ACTION: Notice of intent.

SUMMARY: The Clear Creek watershed drains portions of Fort Bend, Harris, Galveston, and Brazoria counties, Texas, including portions of Houston and the smaller towns of League City, Friendswood and Pearland, among others. The watershed also forms part of the boundary between Harris County to the north and Galveston and Brazoria counties to the south. Clear Creek flows into the west side of upper Galveston Bay through Clear Lake. The Draft Environmental Impact Statement (DEIS) will evaluate several flood detention and conveyance features to reduce flooding of homes and businesses in the Clear Creek Watershed. The study will focus on environmental and social conditions currently present and those likely to be affected by the proposed changes in the watershed. The flood-control project includes construction of several miles of high flow channel adjacent to the existing channel, while preserving the existing channel and floodplain forest. Detention of flood waters would also be provided in some areas where the high flow channel diverges from the low flow channel and in off-line detention areas adjacent to the creek. All flood control measures on Clear Creek occur upstream of the Dixie Farm Road crossing. The proposed project also includes widening three tributaries to Clear Creek, Mud Gully, Turkey Creek, and Mary's Creek, for improved conveyance of flood flows, with detention basins constructed adjacent to Mary's Creek and between Clear Creek and Mud Gully.

ADDRESSES: U.S. Army Corps of Engineers, Galveston District, P.O. Box 1229, Galveston, TX 77553-1229.

FOR FURTHER INFORMATION CONTACT: Mr. Robert Heinly, (409) 766-3992, Planning Lead, Planning Section, Planning, Environmental and Regulatory Division; or Ms. Andrea Catanzaro, (409) 766-6346, Environmental Lead, Environmental Section, Planning, Environmental and Regulatory Division.

SUPPLEMENTARY INFORMATION: (1) Background. Flooding along Clear Creek has caused problems for over 30 years. Floodwaters in 1973, 1976, 1979, 1989, and 1994 substantially damaged residences along the creek. Heavy rains from Tropical Storm Allison in 2001 resulted in severe flooding along Clear Creek and prompted the buyout of approximately 300 flood-prone homes. However, flooding is not only a problem associated severe rain events, but has become increasingly more frequent along Clear Creek, even with moderate amounts of rainfall. Local authorities have made limited channel improvements to address specific flood concerns, but those efforts have contributed little to resolving the current large-scale flooding problem. The Clear Creek Federal flood control project was authorized by Congress in the Flood Control Act of 1968 (Pub. L. 91-611, Section 221). The authorized project extended 31 miles from Clear Lake to the Fort Bend County line. Plans included deepening, widening, and realigning the creek channel. The congressional authorization for this project only allows the consideration of reducing flood damage caused by rainfall runoff along the main channel of Clear Creek and not coastal flooding caused by tropical storm systems. In 1982 the Phase I General Design Memorandum, including the Final Environmental Impact Statement, was signed by the U.S. Army Corps of Engineers (USACE) Southwest Division Engineer, thus authorizing the detailed design. Due to concerns regarding its design, the project's non-Federal sponsors, Galveston County and Harris County Flood Control District, with input from the public and governmental entities, requested reevaluation of the design. In 1997, the sponsors requested the USACE adopt changes to the plans. The changes requested by the non-Federal sponsors were beyond the discretionary authority of the USACE Southwest Division Commander to approve. As a result, in February 1999, the USACE decided a general reevaluation study would be needed. In April 1999, the non-Federal sponsors agreed to accept the USACE recommendation to conduct the general reevaluation study. The general reevaluation study reconsidered the previously authorized project as well as non-Federal sponsor-proposed alternatives and other alternatives that were deemed reasonable. Brazoria County Drainage District #4 joined the non-Federal sponsors in this effort by June 1999.

(2) Alternatives. The construction alternatives that will be evaluated are: (1) Constructing 15.2 miles of 130 ft to 240 ft wide high flow channel in two separate sections of Clear Creek. (2) Detention of 485 acre feet of flood water in the high flow channel of Clear Creek where it diverges from the low flow channel. (3) Detention of 1,750 acre feet of flood water in a 160 acre basin adjacent to Clear Creek. (4) Construction of a grass-lined channel on 2.4 miles of Turkey Creek to its confluence with Clear Creek. (5) Construction of a concrete-lined channel for 0.8 mile of Mud Gully in the reach which is located between the northbound and southbound lanes of Beamer Rd. (6) Detention of 1,515 acre feet of flood water in a 120 acre basin between Clear Creek and Mud Gully. (7) Construction of a 2.1 mile grass-lined channel on Mary's Creek. (8) Detention of 857 acre feet of flood water in two detention basins totaling 120 acres along Mary's Creek.

(3) Scoping. Scoping meetings were held on March 15, 2001 at the Friendswood High School in Friendswood, TX, on March 15, 2001 in Friendswood, TX, on May 3, 2001 in League City, TX, and on May 9, 2001 in Pearland, TX. The scoping process involved Federal, State and local agencies, and other interested persons and organizations. Comments were received for 30 days following each scoping meeting. Comments will be considered during preparation of the EIS. At this time, there are no plans for an additional scoping effort.

(4) Coordination. Further coordination with environmental agencies will be conducted under the National Environmental Policy Act, the Fish and Wildlife Coordination Act, the Endangered Species Act, the Clean Water Act, the Clean Air Act, the National Historic Preservation Act, the Magnuson-Stevens Fishery Conservation and Management Act (Essential Fish Habitat), and the Coastal Zone Management Act under the Texas Coastal Management Program.

(5) DEIS Preparation. It is estimated that the DEIS will be available to the public for review and comment in March 2009.

Richard Medina,
Chief, Planning and Environmental Branch.

[FR Doc. E8-14239 Filed 6-23-08; 8:45 am]

BILLING CODE 3710-52-P